DEPARTMENT OF DEFENSE

Office of the Secretary

[Transmittal Nos. 13-44]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-44 with attached transmittal, policy justification, and Sensitivity of Technology.

Dated:November 26, 2013.
Aaron Siegel
Alternate OSD Federal Register Liaison Officer, Department of Defense.

BILLING CODE 5001-06-P

BILLING CODE 5001-06-C

Transmittal No. 13-44

Notice of Proposed Issuance of Letter of Offer Pursuant to Section 36(b)(1) of the Arms Export Control Act, as amended

(i) Prospective Purchaser: Kingdom of Saudi Arabia

(ii) Total Estimated Value:

Major Defense Equipment* | $.35 billion
Other | .75 billion
Total | 1.10 billion

(iii) Description and Quantity or Quantities of Articles or Services under Consideration for Purchase: 109 Link—16 Multifunction Information Distribution System Low Volume Terminals (MIDS-LVT), Global Command and Control Systems—Joint (GCCS-J), Identification Friend or Foe (IFF), Commercial Satellite Communications (SATCOM), Combined Enterprise Regional Information Exchange System (CENTRIXS) and follow-on systems, Commercial High Frequency (HF) Radios, Commercial Ultra High Frequency/Very High Frequency (UHF/VHF) Radios, HF Voice and Data, HF Sub-Net Relay (SNR), Commercial HF Internet Protocol (IP)/SNR, Global Positioning System (GPS), Air Defense System Interrogator (ADSI), communications support equipment, information technology upgrades, spare and repair parts, publications and technical documentation, personnel training and training equipment, U.S. Government and contractor engineering and technical support, and other elements of program support.

(iv) Military Department: Navy (SBQ).

(v) Prior Related Cases, if any: FMS Case BBG—$93M—29Apr02, FMS Case GBK—$101M—29Apr02, FMS Case GBL—$24M—29Apr02, FMS Case LCF—$15M—29Apr02, FMS Case GBM—$16M—31May11.

(vi) Sales Commission, Fee, etc., Paid, Offered, or Agreed to be Paid: None.

(vii) Sensitivity of Technology Contained in the Defense Article or Defense Services Proposed to be Sold: See Attached Annex.

(viii) Date Report Delivered to Congress: 18 Nov 13.

* as defined in Section 47(6) of the Arms Export Control Act.

POLICY JUSTIFICATION

Kingdom of Saudi Arabia—C4I System Upgrade and Maintenance

The Government of Saudi Arabia has requested a possible sale of C4I system upgrades and maintenance including: 109 Link-16 Multifunction Information Distribution System Low Volume Terminals (MIDS-LVT), Global Command and Control Systems—Joint (GCCS-J), Identification Friend or Foe (IFF), Commercial Satellite Communications (SATCOM), Combined Enterprise Regional Information Exchange System (CENTRIXS) and follow-on systems, Commercial High Frequency (HF) Radios, Commercial Ultra High Frequency/Very High Frequency (UHF/VHF) Radios, HF Voice and Data, HF Sub-Net Relay (SNR), Commercial HF Internet Protocol (IP)/SNR, Global Positioning System (GPS), Air Defense System Interrogator (ADSI), communications support equipment, information technology upgrades, spare and repair parts, publications and technical documentation, personnel training and training equipment, U.S. Government and contractor engineering and technical support, and other elements of program support. The estimated cost is $1.1 billion.

This proposed sale will contribute to the foreign policy and national security of the United States by helping to improve the security of a strategic regional partner which has been, and continues to be, an important force for political stability and economic progress in the Middle East.

The proposed sale will improve the Royal Saudi Naval Forces' capability to maintain and upgrade its current C4I system, increase the ability of RSNF vessels and manpower to effectively protect Saudi Arabia's coastal strategic assets, and keep pace with the rapid advances in C4I technology to remain a viable U.S. coalition partner in the region. The RSNF will use the upgraded C4I system to provide situational awareness of naval activity in the Persian Gulf and the Red Sea.

The proposed sale of this equipment and support will not alter the basic military balance in the region.

There will be no principal contractors involved with this proposed sale. The acquisition and integration of all systems will be managed by the U.S. Navy's Space and Naval Warfare Weapons Command (SPAWAR). There are no known offset agreements proposed in connection with this potential sale.

Implementation of this proposed sale will require the assignment of 14 U.S. Government and contractor representatives in the Kingdom of Saudi Arabia for ten years to support network design, acquisition, implementation, installation, and integration efforts.

There will be no adverse impact on U.S. defense readiness as a result of this proposed sale.

Transmittal No. 13-44

Notice of Proposed Issuance of Letter of Offer Pursuant to Section 36(b)(1) of the Arms Export Control Act

Annex

Item No. vii

(vii) Sensitivity of Technology:

1. The following technologies included in this sale are considered sensitive (there are no systems with embedded COMSEC identified in this notification with the exception of Link-16 Multifunction Information Distribution System Low Volume Terminals (MIDS-LVT) and IFF:

2. Link-16 Multifunction Information Distribution System Low Volume Terminals (MIDS-LVT) is a command, control, communications, and intelligence (C3I) system incorporating high-capacity, jam-resistant, digital communication links for exchange of near real-time tactical information including both data and voice, among air, ground and sea elements. Link-16 Multifunction Information Distribution System Low Volume Terminals (MIDS-LVT) is intended to support key theater functions such as surveillance, identification, air control, weapons engagement coordination, and direction for U.S. Services and those allied and partner nations for which there is a validated interoperability requirement. The system will provide jam-resistant, wide-area communications on a Link-16 Multifunction Information Distribution System Low Volume Terminals (MIDS-LVT) network among Link-16 Multifunction Information Distribution System Low Volume Terminals (MIDS-LVT) equipped platforms. Link-16 Multifunction Information Distribution System Low Volume Terminals (MIDS-LVT) will be used for both shore and shipboard use at the strategic and tactical levels as a real-time bridge between tactical data links and intelligence data sources Link-16 Multifunction Information Distribution System Low Volume Terminals (MIDS-LVT) receives, processes, correlates, and displays tracks from local radars, tactical data links, and intelligence sources with minimal operator interaction. Link-16 Multifunction Information Distribution System Low Volume Terminals (MIDS-LVT) provides a correlated, real-time picture of the battle space. These devices have embedded COMSEC which contains sensitive encryption algorithms and keying material.

3. Global Command and Control Systems—Joint (GCCS-J) provides the operational commander's warfighting capability with aids in the decision-making process by receiving, retrieving, and displaying information to allow warfighters to plan, coordinate, exercise, execute and evaluate naval and joint operations. GCCS-J is an open-ended architecture system consisting of servers, workstations, routers, hubs, and encryption devices, and integrates information from multiple C4I functional areas. (GCCS-J) operations contain sensitive operational data feeds, data formats, networking protocols and system architectures.

4. Combined Enterprise Regional Information Exchange System (CENTRIXS) is a collection of classified coalition networks that enable information sharing through the use of email and web services, instant messaging or chat, the Common Operational Picture service, and Voice over IP. CENTRIXS supports combatant commands throughout the world. CENTRIXS contains sensitive operational data feeds, data formats, networking protocols and system architectures.

5. Air Defense System Interrogator (ADSI) provides an interface for military and commercial radars, tactical data links and intelligence reporting systems. ADSI also offers a general interface and translation capability for a variety of C4I data link formats and can interface tactical systems with simulations. ADSI contains sensitive operational data feeds, data formats, networking protocols and system architectures.

6. Sub-Net Relay is a masterless, ad-hoc, self-organizing data networking technology with inherent relay capabilities that employ tactical line-of-sight bearers to carry internet protocol data between groups of ships. HF Sub-Net Relay, which interfaces with Link-16 Multifunction Information Distribution System Low Volume Terminals (MIDS-LVT), contains sensitive operational data feeds, data formats, networking protocols and system architectures while the HF/IP Sub Net Relay is part of a commercial capability.

7. Radio Frequency (RF) and Internet Protocol (IP) Interfaces included in this case do not contain sensitive technology, however, they will connect to communications security devices which are not included in this case(s).

8. Identification Friend or Foe (IFF) is an identification system designed for command and control. It is a system that enables interrogation systems to distinguish friendly aircraft, vehicles, or forces, and to determine their bearing and range from the interrogator. IFF contains embedded security devices containing sensitive encryption algorithms and keying material. IFF contains sensitive operational data feeds, data formats, networking protocols and system architectures.

9. Commercial Global Positioning System (GPS)-provides a space-based global navigation satellite system (GNSS) that has reliable location and time information in all weather and at all times and anywhere on or near the Earth when and where there is an unobstructed line of sight to four or more GPS satellites. Emergent militarized GPS requirements will be addressed in future cases, if necessary.

10. Commercial HF Voice and Data Radios and Ultra High Frequency/Very High Frequency (UHF/VHF) Radios will be procured with this case. No sensitive encryption algorithms or keying material will be provided through this case.

11. If a technologically advanced adversary were to obtain knowledge of the specific hardware and software elements, the information could be used to develop countermeasures which might reduce weapon system effectiveness or be used in the development of a system with similar or advanced capabilities. Appropriate safeguards will be taken in regards to shared US Government information passed through the networks of our RSNF strategic partner.

[FR Doc. 2013-28766 Filed 11-29-13; 8:45 am]

BILLING CODE 5001-06-P